DEPARTMENT OF COMMERCE

International Trade Administration

Renewable Energy and Energy Efficiency Advisory Committee; Extended Deadline for Solicitation of Nominations for Membership

AGENCY: International Trade Administration, Department of Commerce.

ACTION: Notice.

SUMMARY: The U.S. Department of Commerce has extended the deadline by which it will accept nominations to serve on the Renewable Energy and Energy Efficiency Advisory Committee. Nominations submitted by 11:59 p.m. (EDT) on August 1, 2012 will be considered. Nominations submitted prior to this deadline extension will also be considered. Detailed information on nomination procedures, qualifications for membership, and on the composition and purpose of the Renewable Energy and Energy Efficiency Advisory Committee can be found in Federal Register of June 26, 2012, 77 FR 38040.

Nominations may be emailed to Jennifer Derstine at jennifer.derstine@trade.gov, or faxed to the attention of Jennifer Derstine at 202-482-5665, or mailed to Jennifer Derstine, Office of Energy & Environmental Industries, Room 4053, U.S. Department of Commerce, 1401 Constitution Avenue NW., Washington, DC 20230, and must be received by 11:59 p.m. (EDT) on August 1, 2012. Nominees selected for appointment to the Committee will be notified by return mail.

FOR FURTHER INFORMATION CONTACT: Jennifer Derstine by email at Jennifer.derstine@trade.gov; Office of Energy & Environmental Industries, Room 4053, U.S. Department of Commerce, 1401 Constitution Avenue NW., Washington, DC 20230; phone 202-482-3889; fax 202-482-5665.

Dated: July 20, 2012.
Catherine P. Vial,
Team Leader, Environmental Industries, Office of Energy and Environmental Industries.

[FR Doc. 2012-18314 Filed 7-25-12; 8:45 am]

BILLING CODE 3510-DR-P